DEPARTMENT OF STATE

[Public Notice: 9800]

E.O. 13224 Designation of Abdelilah Himich, aka Abu Suleyman al-Faransi, aka Abu Suleyman al-Firansi, aka Abu Sulaiyman al Fransi, aka Abu Sulaiyman, aka Abu Suleyman, aka Abou Souleiman Al-Firansi, aka Abu Sulayman al-Faransi, aka Abu Souleymane, aka Abu Souleymane al-Faransi, aka Abu Souleymane the Frenchman, aka Abu Suleiman as a Specially Designated Global Terrorist

Acting under the authority of and in accordance with section 1(b) of E.O. 13224 of September 23, 2001, as amended by E.O. 13268 of July 2, 2002, and E.O. 13284 of January 23, 2003, I hereby determine that the person known as Abdelilah Himich, also known as Abu Suleyman al-Faransi, also known as Abu Suleyman al-Firansi, also known as Abu Sulaiyman al Fransi, also known as Abu Sulaiyman, also known as Abu Suleyman, also known as Abou Souleiman Al-Firansi, also known as Abu Sulayman al-Faransi, also known as Abu Souleymane, also known as Abu Souleymane al-Faransi, also known as Abu Souleymane the Frenchman, also known as Abu Suleiman, committed, or poses a significant risk of committing, acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: November 4, 2016.
John F. Kerry,
Secretary of State.

[FR Doc. 2016-28408 Filed 11-23-16; 8:45 am]

BILLING CODE 4710-AD-P